ENVIRONMENTAL PROTECTION AGENCY

[FRL-6705-9]

Proposed CERCLA Administrative Cost Recovery Settlement; Hoxie Flying Service, Inc., Hoxie, Sheridan County, Kansas

AGENCY: Environmental Protection Agency (EPA).

ACTION: Notice; request for public comment.

SUMMARY: In accordance with section 122(h) of the Comprehensive Environmental Response, Compensation, and Liability Act, as amended (“CERCLA”), 42 U.S.C. 9622(h), notice is hereby given of a proposed administrative settlement for recovery of past response costs concerning the Hoxie Superfund Crash Site, Hoxie, Sheridan County, Kansas, with the following settling party: Hoxie Flying Service, Inc. The settlement requires the settling party to pay $89,500 to the Hazardous Substance Superfund over a period of five years, plus interest at the current rate specified for interest on investments of the Hazardous Substance Superfund (5.3%) established by 26 U.S.C. 9507. The settlement agreement includes a covenant not to sue the settling party pursuant to section 107(a) of CERCLA, 42 U.S.C. 9607(a). An employee of Hoxie Flying Services, Inc. crashed into the roof of a residence located at the Site while carrying a full load of methyl parathion. EPA removed contaminated portions of the structure and contaminated soils surrounding the residence and then restored the property in cooperation with the home owner's insurance company. The home owner's insurance company has reimbursed $10,000 of EPA's total costs of $134,398.54. For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the Sheridan County Library, 801 Royal Avenue, Hoxie, Kansas 67740, and Office of Regional Hearing Clerk, EPA, 901 North 5th Street, Kansas City, KS 66101.

DATES: Comments must be submitted on or before June 26, 2000.

ADDRESSES: The proposed settlement providing additional background information relating to the settlement is available for public inspection at Office of Regional Hearing Clerk, Environmental Protection Agency, 901 N. 5th Street, Kansas City, KS 66101. A copy of the proposed settlement may be obtained from Kathy Robinson, Regional Hearing Clerk, EPA, 901 N. 5th Street, Kansas City, KS 66101, telephone 913-551-7567. Comments should reference the Hoxie Superfund Crash Site, Hoxie, Sheridan County, Kansas, Docket No. CERCLA 7-2000-0018, and should be addressed to Regional Hearing Clerk, EPA, 901 N. 5th Street, Kansas City, KS 66101.

FOR FURTHER INFORMATION CONTACT: James D. Stevens, Assistant Regional Counsel, EPA, 901 N. 5th Street, Kansas City, KS 66101, telephone: 913-551-7322.

Dated: May 15, 2000.
William Rice,
Acting Regional Administrator, Region 7.

[FR Doc. 00-13204 Filed 5-25-00; 8:45 am]

BILLING CODE 6560-50-P